DEPARTMENT OF HOUSING AND URBAN DEVELOPMENT

[Docket No. FR-5383-N-27]

Notice of Proposed Information Collection for Public Comment for the Family Unification Program (FUP)

AGENCY: Office of the Assistant Secretary for Public and Indian Housing, HUD.

ACTION: Notice.

SUMMARY: The proposed information collection requirement described below will be submitted to the Office of Management and Budget (OMB) for review, as required by the Paperwork Reduction Act of 1995 (44 U.S.C. Chapter 35, as amended). The Department is soliciting public comments on the subject proposal.

DATES: Comments Due Date: February 15, 2011.

ADDRESSES: Interested persons are invited to submit comments regarding this proposal. Comments should refer to the proposal by name and/or OMB Control number and should be sent to: Colette Pollard, Departmental Reports Management Officer, QDAM, Department of Housing and Urban Development, 451 7th Street, SW., Room 4178, Washington, DC 20410-5000; telephone 202-402-3400 (this is not a toll free number), or e-mail Ms. Pollard at Colette.Pollard@hud.gov for information on the data collected. Persons with hearing or speech impairments may access this number through TTY by calling the toll-free Federal Information Relay Service at (800) 877-8339. (Other than the HUD USER information line and TTY numbers, telephone numbers are not toll-free.)

FOR FURTHER INFORMATION CONTACT: Arlette A. Mussington, Office of Policy, Programs and Legislative Initiatives, PIH, Department of Housing and Urban Development, 470 L'Enfant Plaza, SW., Suite 2206, Washington, DC 20024, telephone 202-402-4109 (this is not a toll-free number), or e-mail at Arlette.A.Mussington@hud.gov.

SUPPLEMENTARY INFORMATION: The Department will submit the proposed information collection to OMB for review, as required by the Paperwork Reduction Act of 1995 (44 U.S.C. Chapter 35, as amended).

This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submissions of responses.

This Notice also lists the following information:

Title of Proposal: Family Unification Program (FUP).

OMB Control Number: 2577-0259.

Description of the Need for the Information and Proposed Use: The Family Unification Program (FUP) is a program, authorized under section 8(x) of the United States Housing Act of 1937 {42 U.S.C. 1437(X)}, that provides housing choice vouchers to PHAs to assist families for whom the lack of adequate housing is a primary factor in the imminent placement of the family's child, or children, in out-of-home care; or the delay in the discharge of the child, or children, to the family from out-of-home care. Youths at least 18 years old and not more than 21 years old (have not reached 22nd birthday) who left foster care at age 16 or older and who do not have adequate housing are also eligible to receive housing assistance under the FUP. As required by statute, a FUP voucher issued to such a youth may only be used to provide housing assistance for the youth for a maximum of 18 months.

Vouchers awarded under FUP are administered by PHAs under HUD's regulations for the Housing Choice Voucher program (24 CFR Part 982).

Agency Form Numbers: HUD-52515 (OMB Approval # 2577-0169), HUD 50058 (OMB approval # 2577-0083), HUD-2993 (OMB Approval # 2577-0259), HUD-96010 (OMB Approval # 2535-0114), HUD 96011 (OMB approval # 2535-0118), HUD-2990, HUD-2991 (OMB Approval # 2506-0112) and HUD 2880 (OMB Approval # 2510-0011), SF-424 (OMB Approval # 0348-0043), SF LLL (OMB Approval # 0348-0043).

Members of the Affected Public: Public Housing Agencies.

Estimation of the total number of hours needed to prepare the information collection including number of respondents: The total burden for data collection is estimated at 6,101.95 hours. It is anticipated that approximately 265 PHAs will apply for FUP vouchers each year the program is funded. The estimate of the total annual cost burden to respondents/record keepers resulting from the collection of this information is: 6,101.95 burden hours × $34.34 = $209,540.96; assuming a Manager's hourly rate at the GS-13/Step 1 level.

*Burden hours for forms showing zero burden hours in this collection are reflected in the OMB approval number cited or do not have a reportable burden. The burden hours for this collection is 6,101.95.

Status of the Proposed Information Collection: Revision of a currently approved collection.

Authority: Section 3506 of the Paperwork Reduction Act of 1995, 44 U.S.C. Chapter 35, as amended.

Dated: December 13, 2010.
Merrie Nichols-Dixon,
Acting Deputy Assistant Secretary for Policy, Program and Legislative Initiatives.

[FR Doc. 2010-31794 Filed 12-16-10; 8:45 am]

BILLING CODE 4210-67-P